GENERAL SERVICES ADMINISTRATION

[Notice-PBS-2013-02; Docket No: 2013-0002; Sequence 12]

Federal Management Regulation; Delegations of Lease Acquisition Authority—Notification, Usage, and Reporting Requirements for General Purpose, Categorical, and Special Purpose Space Delegations

AGENCY: Public Buildings Service (PBS), General Services Administration (GSA).

ACTION: Notice of FMR Bulletin C-2, Delegations of Lease Acquisition Authority.

SUMMARY: The purpose of this notice is to announce FMR Bulletin C-2. The U.S. General Services Administration (GSA) recently completed a review of agencies' lease files for space acquired using a delegation of leasing authority from GSA in accordance with Federal Management Regulation (FMR) Bulletin 2008-B1 (Bulletin 2008-B1). FMR Bulletin C-2 clarifies the conditions, restrictions and reporting requirements specified in the delegation of authority and updates weblinks, the Simplified Lease Threshold and regulation references specified in FMR Bulletin 2008-B1. This bulletin is in keeping with the spirit of Executive Order 13327, “Federal Real Property Asset Management,” to maximize the increased governmentwide emphasis on real property inventory management. FMR Bulletin C-2 and all other FMR bulletins may be accessed at http://www.gsa.gov/fmrbulletins.

DATES: March 13, 2014.

FOR FURTHER INFORMATION CONTACT: Contact Ms. Mary Pesina, Director, Center for Lease Delegations, Office of Leasing, Public Buildings Service, at 202-236-1686, or mary.pesina@gsa.gov.

SUPPLEMENTARY INFORMATION: Federal Property Management Regulation (FPMR) Bulletin D-239, published in the Federal Register on October 16, 1996 (61 FR 53924), announced a new GSA leasing program called “Can't Beat GSA Leasing” and the delegation of lease acquisition authority issued by the Administrator of General Services to the heads of all Federal agencies in his letter of September 25, 1996. GSA Bulletin FPMR D-239, Supplement 1, published in the Federal Register on December 18, 1996 (61 FR 66668), issued supporting information for the delegation. GSA Bulletin FMR 2005-B1, published in the Federal Register on May 25, 2005 (70 FR 30115), revised and re-emphasized certain procedures associated with the delegation of General Purpose leasing authority.

On August 24, 2007, the Government Accountability Office and the GSA Office of Inspector General issued a report recommending that GSA provide centralized management and oversight of all lease delegation activities to ensure that all federal agencies procuring leased space under delegated authority follow the conditions, restrictions and reporting requirements specified in the delegation of authority. In response to the audit recommendations, GSA centralized its management and oversight of all GSA-authorized lease delegations and, on November 19, 2007, published FMR Bulletin 2008-B1 in the Federal Register (72 FR 65026), which limited General Purpose delegations of lease authority to no more than 19,999 rentable square feet of space and implemented management controls commensurate with the risks at that threshold. In addition, FMR Bulletin 2008-B1 established new requirements for agencies requesting authorization to use the General Purpose and Special Purpose delegation authority and established revised reporting requirements, including the submission of documents to GSA at various points in the lease acquisition process, and required agencies to have in place an organizational structure to support the delegation, ensure compliance with all applicable laws, regulations and GSA directives governing the lease acquisition and administer the lease. FMR Bulletin 2008-B1 also addressed requirements for another longstanding delegation for Categorical space, as provided in 41 CFR part 102-73.

FMR Bulletin C-2 re-emphasizes and updates the conditions, restrictions and reporting requirements applicable to GSA leasing delegations.

Dated: March 10, 2014.
Anne E. Rung,
Associate Administrator.

[FR Doc. 2014-05548 Filed 3-12-14; 8:45 am]

BILLING CODE 6820-14-P